DEPARTMENT OF HOMELAND SECURITY

Federal Emergency Management Agency

Agency Information Collection Activities: Proposed Collection; Comment Request

AGENCY: Federal Emergency Management Agency, Emergency Preparedness and Response Directorate, Response Division, Department of Homeland Security.

ACTION: Notice and request for comments.

SUMMARY: The Federal Emergency Management Agency, as part of its continuing effort to reduce paperwork and respondent burden, invites the general public and other Federal agencies to take this opportunity to comment on a revision of a currently approved collection. In accordance with the Paperwork Reduction Act of 1995 (44 U.S.C. 3506(c)(2)(A)), this notice seek comments concerning the EMI Independent Study Course Enrollment Application.

SUPPLEMENTARY INFORMATION: The Robert T. Stafford Disaster Relief and Emergency Act Pub. L. 93-288, as amended authorize training programs for emergency preparedness. The information obtained from the Emergency Management Institute (EMI) form will be used for independent study course enrollment and to provide course materials to applicants. Applicants can select as many courses as they want, but they will be actively enrolled in only one course at a time. When applicants complete each course with a passing score, new course material from the course menu selection will be sent to applicants.

Collection of Information

Title: EMI Independent Study Course Enrollment Application.

Type of Information Collection: Revision of a currently approved collection.

OMB Number: 1660-0046.

Form Numbers: 95-23.

Abstract: The purpose of this form is to collect information from individuals on what Independent Study courses they wish to enroll in. This form lists the courses available through FEMA's Independent Study Program and collections information from individuals so that these courses can be mailed to them.

Affected Public: Individuals or households.

Estimated Total Annual Burden Hours: 2,493.

FEMA form | Number of respondents | Frequency of response | Hours per response | Annual burden hours
| (A) | (B) | (C) | (A × B × C)
95-23 | 187,000 | 1 | 2 minutes | 2,493
Total | 187,000 | 1 | 2 minutes | 2,493

Estimated Cost to Respondents: 37 cents per respondent. The total annual burden cost for this collection of information to respondents includes a 37 cent stamp per respondent × 74,800 respondents = $27,676. No additional cost to the respondent has been identified since about 60% or 112,200 respondents use the Internet to enroll in EMI Independent Study courses, and the estimated hour burden is minimal.

Estimated Cost to the Agency: The FEMA Independent Study program costs $80,784 annually to administer. This includes processing applications, grading exams, issuing course completion certificates, mailing course materials and handling student inquiries. Also, the annual printing cost to reprint course materials is approximately $70,000. Therefore, the total costs to the Agency for this program is $150,784.

Comments: Written comments are solicited to (a) Evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses. Comments must be received on or before May 3, 2004.

ADDRESSES: Interested persons should submit written comments to Muriel B. Anderson, Chief, Records Management Branch, FEMA, at 500 C Street, SW., Room 316, Washington, DC 20472 or e-mail address InformationCollections@dhs.gov.

FOR FURTHER INFORMATION CONTACT: Ms. Vilma Schifano-Milmoe, Contract Officer's Technical Representative/Training Specialist, Independent Study Program, Emergency Management Institute, FEMA, at 301-443-2057. You may contact Ms. Anderson for copies of the proposed information collection (see addressee information above).

Dated: February 24, 2004.
George S. Trotter,
Acting Division Director, Information Resources Management Division, Information Technology Services Directorate.

[FR Doc. 04-4545 Filed 3-1-04; 8:45 am]

BILLING CODE 9110-17-P